DEPARTMENT OF DEFENSE

Office of the Secretary

Establishment of Department of Defense Federal Advisory Committees—Armed Forces Retirement Home Advisory Council

AGENCY: Department of Defense (DoD).

ACTION: Establishment of Federal advisory committee.

SUMMARY: The DoD gives notice that it is establishing the Armed Forces Retirement Home Advisory Council (AFRHAC) as a non-discretionary Federal advisory committee.

FOR FURTHER INFORMATION CONTACT: Jim Freeman, DoD Advisory Committee Management Officer, 703-697-1411.

SUPPLEMENTARY INFORMATION: The DoD gives notice that it is establishing the AFRHAC as a non-discretionary Federal advisory committee in accordance with chapter 10 of title 5 United States Code (U.S.C.) (formerly the Federal Advisory Committee Act (FACA) (5 U.S.C., App.)). The AFRHAC, required by 24 U.S.C. 416, provides guidance and recommendations on the administration of the Armed Forces Retirement Home (AFRH) and the quality of care provided to residents of the AFRH. Pursuant to 24 U.S.C. 411(b), the purpose of the AFRH is to provide, through the AFRH-Washington [Washington, DC] and AFRH-Gulfport [Gulfport, Mississippi], residences and related services for certain retired and former members of the Armed Forces.

In carrying out its objectives and activities, the AFRHAC provides to the Secretary of Defense, the AFRH Chief Operating Officer, and the Administrator of each facility such guidance and recommendations on the administration of the facility and the quality of care provided to residents as the AFRHAC considers appropriate. In carrying outs its functions, the AFRHAC provides for participation in its activities by a representative of the Resident Advisory Committee of each facility of the AFRH; and may make recommendations to the DoD Inspector General regarding issues that the Inspector General should investigate. Not less often than annually, the AFRHAC shall submit to the Secretary of Defense a report summarizing its activities during the preceding year and providing such observations and recommendations with respect to the AFRH as the AFRHAC considers appropriate.

In reviewing the mission/scope of the AFRHAC, the Secretary of Defense directed that the AFRHAC membership should include appropriate individuals from both the private and public sectors to promote diversity of background, experience, and thought in support of the AFRHAC mission. Based upon the Secretary's decision, the AFRHAC will be established in accordance with chapter 10 of title 5 U.S.C. and 41 Code of Federal Regulations (CFR) 102-3.50(a). The charter and contact information for the AFRHAC's Designated Federal Officer (DFO) can be found at https://www.facadatabase.gov/FACA/apex/FACAPublicAgencyNavigation.

Pursuant to 24 U.S.C. 416(c), the AFRHAC shall be composed of at least 15 members. Members of the AFRHAC shall be appointed by the Secretary of Defense or the Deputy Secretary of Defense (“the DoD Appointing Authority”), or in the case of employees of other Federal departments or agencies, appointed in consultation with the DoD Appointing Authority by their respective departments and agencies. Membership shall consist of (1) one member who is an expert in nursing home or retirement home administration and financing; (2) one member who is an expert in gerontology; (3) one member who is an expert in financial management; (4) two representatives of the Department of Veterans Affairs, one to be designated from each of the regional offices nearest in proximity to the facilities of the AFRH; (5) the chairpersons of the AFRH Resident Advisory Committees; (6) one enlisted representative of the Services' Retiree Advisory Council; (7) the senior noncommissioned officer of one of the Armed Forces; (8) two senior representatives of military medical treatment facilities, one to be designated from each of the military hospitals nearest in proximity to the facilities of the AFRH; (9) one senior judge advocate from one the Armed Forces; (10) one senior representative of one of the chief personnel officers of the Armed Forces; (11) such other members as the Secretary of Defense may designate; and (12) the Administrator of each facility of the AFRH, who shall be a nonvoting member of the AFRHAC.

In accordance with 24 U.S.C. 416(d)(1) and DoD policy, members shall serve a two-year term of service, with annual renewal, and the DoD Appointing Authority may designate a member to serve one additional term of service. Pursuant to 24 U.S.C. 416(e), a vacancy in the AFRHAC shall be filled in the manner in which the original designation was made. An AFRHAC member designated to fill a vacancy occurring before the end of the term of the predecessor shall be designated for the remainder of the term of the predecessor.

Pursuant to 24 U.S.C. 416(d)(2) through (4), a member of the AFRHAC member, unless earlier terminated by the DoD Appointing Authority, may continue to serve as a member of the AFRHAC after the expiration of the member's term until a successor is designated; the DoD Appointing Authority may terminate the term of service of a member of the AFRHAC before the expiration of the member's term; and a member of the AFRHAC serves as a member of the AFRHAC only for as long as the member is assigned to or serving in a position for which the duties include the duty to serve as a member of the AFRHAC.

The DoD Appointing Authority shall appoint the AFRHAC's Chair from among the membership previously approved, in accordance with DoD policy and procedures, for a term of service of one-to-two years, with annual renewal, which shall not exceed the member's approved AFRHAC appointment. Pursuant to 24 U.S.C. 416(c)(5), the AFRHAC's Chair shall conduct the meetings of the AFRHAC.

AFRHAC members who are not full-time or permanent part-time Federal civilian officers or employees, or active-duty members of the Uniformed Services, are appointed as experts or consultants, pursuant to 5 U.S.C. 3109, to serve as special government employee members. AFRHAC members who are full-time or permanent part-time Federal civilian officers or employees, or active-duty members of the Uniformed Services, are designated pursuant to 41 CFR 102-3.130(a) to serve as regular government employee members.

All AFRHAC members are appointed to exercise their own best judgment without representing any particular point of view and in a manner that is free from conflict of interest. While away from home or regular place of business in the performance of services for the AFRHAC, each member shall be allowed reimbursement for official AFRHAC-related travel and per diem. Pursuant to 24 U.S.C. 416(f)(1)(A) and (2), the DoD Appointing Authority may provide a stipend consistent with the daily government consultant fee for each day on which an AFRHAC member is engaged in the performance of services for the AFRHAC unless the member is a full-time or permanent part-time Federal civilian officer or employee, or active-duty member of the Uniformed Services.

The public or interested organizations may submit written statements about the AFRHAC's mission and functions. Written statements may be submitted at any time or in response to the stated agenda of planned meeting of the AFRHAC. All written statements shall be submitted to the DFO for the AFRHAC, who will ensure that the written statements are provided to the membership for their consideration.

Dated: April 6, 2023.
Aaron T. Siegel,
Alternate OSD Federal Register Liaison Officer, Department of Defense.

[FR Doc. 2023-07628 Filed 4-11-23; 8:45 am]

BILLING CODE 5001-06-P